DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 13, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Importation of Table Eggs from Regions Where Newcastle Disease and Highly Pathogenic Avian Influenza is Considered to Exist and Exportation of Poultry and Hatching Eggs.

OMB Control Number: 0579-0328.

Summary of Collection: The Animal Health Protection Act (AHPA) of 2002 is the primary Federal law governing the protection of animal health. The law gives the Secretary of Agriculture broad authority to detect, control, or eradicate pests or diseases of livestock or poultry. Veterinary Services, a program with the Animal and Plant Health Inspection Service (APHIS) is responsible for administering regulations intended to prevent the dissemination of animal disease within the United States. Regulations in title 9, Code of Federal Regulations, section 94.6 deal specifically with the importation of table eggs from certain regions that may pose a risk of introducing Newcastle Disease (ND) into the United States. Although this collection applies to any region where ND is considered to exist, the United States is not currently importing table eggs from any ND-affected region.

Need and Use of the Information: APHIS uses the following information activities to requires that U.S. exporters use a health certificate to ensure poultry and hatching eggs are free of disease: (1) a certificate for table eggs from ND-affected regions; and (2) a government seal issued by the veterinarian accredited by the national government who signed the certificate. APHIS will also use form VS-17-6, Export Health Certificate for Poultry or Hatching Eggs for Export. If the information were collected less frequently or not collected at all, APHIS would be unable to establish an effective defense against the incursion of ND from table eggs imported from ND-affected regions. This would cause serious economic consequences for U.S. poultry industry, which would be unable to export poultry and hatching eggs.

Description of Respondents: Business or other for-profit; Federal Government.

Number of Respondents: 201.

Frequency of Responses: Reporting: On occasion.

Total Burden Hours: 3,405.

Animal and Plant Health Inspection Service

Title: Case-Control Study of Highly Pathogenic Avian Influenza in Poultry 2022.

OMB Control Number: 0579-0483.

Summary of Collection: Collection and dissemination of animal health data and information is mandated by 7 U.S.C. 391, the Animal Industry Act of 1884, which established the precursor of the APHIS, Veterinary Services, the Bureau of Animal Industry. Legal requirements for examining and reporting on animal disease control methods were further mandated by 7 U.S.C. 8308 of the Animal Health Protection Act, “Detection, Control, and Eradication of Diseases and Pests,” May 13, 2002. This collection of commercial table egg flock data is consistent with the APHIS mission of protecting and improving American agriculture's productivity and competitiveness.

In 2015, the United States experienced an outbreak of HPAI that has been described as the worst animal health event in U.S. history, requiring over $950,000,000 in federal expenditures and a loss of nearly 50 million birds. At that time, in Iowa alone, more than 30 million table egg layers and pullets were lost to infection or depopulation. This represented a loss of 52% of the Iowa table egg layer inventory.

Since that time, Federal, State, and industry groups have promoted biosecurity and preparedness efforts and engaged in research that has guided prevention work to minimize future outbreaks. Though the 2022 outbreak of HPAI has a wider geographic distribution, the impacts have been lessened. However, these effects are still devastating. As of the end of May 2022, nearly $800 million in federal expenditures has been authorized. Over 58 million birds have been lost to infection or depopulation, and over 70 percent of these birds are commercial table egg layers, pullets, and breeder birds.

Need and Use of the Information: APHIS will collect information using a questionnaire that include questions on-farm practices including current biosecurity practices, ecology and wild birds/wildlife, farm worker practices, equipment, egg handling, dead bird handling, and barn-level parameters. This information can support informed decision-making for producers seeking to protect themselves against future infection.

Without information on the most likely routes of disease introduction, flock managers are unable to implement updated science-informed approaches to preventing infection and/or spread.

Description of Respondents: Business or other for-profit; State, local or Tribal government.

Number of Respondents: 270.

Frequency of Responses: Reporting: On occasion.

Total Burden Hours: 155.

Ruth Brown,
Departmental Information Collection Clearance Officer.

[FR Doc. 2023-02869 Filed 2-9-23; 8:45 am]

BILLING CODE 3410-34-P